DEPARTMENT OF ENERGY

Federal Energy Regulatory Commission

[Docket Nos. RP00-340-000, RP00-340-001, and RP01-7-000]

Gulf South Pipeline Company; Notice of Technical Conference

July 19, 2001.

Take notice that a technical conference to discuss the various issues raised by the filing of Gulf South Pipeline Company will be held on Thursday, August 9, 2001, at 10:00 am, in a room to be designated at the offices of the Federal Energy Regulatory Commission, 888 First Street, NE., Washington, DC 20426. Parties protesting aspects of Gulf South's filing should be prepared to discuss alternatives.

All interested Parties and Staff are permitted to attend.

David P. Boergers,
Secretary.

[FR Doc. 01-18496 Filed 7-24-01; 8:45 am]

BILLING CODE 6717-01-P